INTERNATIONAL TRADE COMMISSION

[Inv. No. 337-TA-494]

In the Matter of Certain Automotive Measuring Devices, Products Containing Same, and Bezels For Such Devices; Notice of Commission Decision Not To Review An Initial Determination Terminating The Investigation As To Respondent Longacre Industries, Inc. On The Basis of A Settlement Agreement And Consent Order; Issuance Of The Consent Order; Republication

Editorial Note: FR Doc. 04-22033 did not publish in the issue of Friday, October 1, 2004. It is being published in its entirety in the issue of October 7, 2004.

AGENCY: International Trade Commission.

ACTION: Notice.

SUMMARY: Notice is hereby given that the U.S. International Trade Commission has determined not to review an initial determination (“ID”) issued by the presiding administrative law judge (“ALJ”) terminating the above-captioned investigation as to respondent Longacre Industries, Inc. on the basis of a consent order.

FOR FURTHER INFORMATION CONTACT: Timothy P. Monaghan, Esq., Office of the General Counsel, U.S. International Trade Commission, 500 E Street, SW., Washington, DC 20436, telephone 202-205-3152. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation on June 20, 2003, based on a complaint filed by Auto Meter Products, Inc. (“Auto Meter”) of Sycamore, Illinois. 68 FR 37023. The complaint alleged violations of section 337 of the Tariff Act of 1930 in the importation and sale of certain automotive measuring devices, products containing same, and bezels for such devices, by reason of infringement of U.S. Registered Trademark Nos. 1,732,643 and 1,497,472, and U.S. Supplemental Register No. 1,903,908, and infringement of the complainant's trade dress. Subsequently, seven more firms were added as respondents based on two separate motions filed by complainant Auto Meter. The investigation was terminated as to nine respondents on the basis of consent orders. Six respondents were found to be in default.

On July 2, 2004, Auto Meter and respondent Longacre Industries, Inc. (“Longacre”) filed a joint motion to terminate based on a settlement agreement between Auto Meter and Longacre and a consent order stipulation with a proposed consent order.

On September 1, 2004, the ALJ issued an ID (Order No. 37) terminating the investigation as to respondent Longacre on the basis of a settlement agreement and consent order. The Commission investigative attorneys filed a response in support of the joint motion. No petitions for review of the ID were filed.

The authority for the Commission's determination is contained in section 337 of the Tariff Act of 1930, as amended (19 U.S.C. 1337), and in section 210.42 of the Commission's Rules of Practice and Procedure (19 CFR 210.42).

Issued: September 27, 2004.
By order of the Commission.
Marilyn R. Abbott,
Secretary to the Commission.

[FR Doc. 04-22033 Filed 9-30-04; 8:45 am]

Editorial Note: FR Doc. 04-22033 did not publish in the issue of Friday, October 1, 2004. It is being published in its entirety in the issue of October 7, 2004.

[FR Doc. R4-22033 Filed 10-6-04; 8:45 am]

BILLING CODE 1505-01-D